NATIONAL AERONAUTICS AND SPACE ADMINISTRATION

48 CFR Part 1842

Exemption of SBIR/STTR Phase II Contracts from Interim Past Performance Evaluations

AGENCY: National Aeronautics and Space Administration (NASA).

ACTION: Final rule.

SUMMARY: This final rule revises the NASA FAR Supplement (NFS) to make interim past performance evaluations under FAR Part 42 optional for SBIR/STTR Phase II contracts.

EFFECTIVE DATES: July 21, 2000.

FOR FURTHER INFORMATION CONTACT: Paul Brundage, NASA Headquarters, Office of Procurement, Contract Management Division (Code HK), Washington, DC 20456-0001, (202) 358-0481, e-mail: pbrundage@hq.nasa.gov.

SUPPLEMENTARY INFORMATION:

A. Background

NASA centers have reported that interim evaluations on SBIR/STTR contracts are usually perfunctory and without substance because there is seldom anything to evaluate until contract completion. This final rule makes interim evaluations for SBIR/STTR Phase II contracts optional.

B. Regulatory Flexibility Act

NASA certifies that this final rule will not have a significant economic impact on a substantial number of small business entities under the Regulatory Flexibility Act (5 U.S.C. 601 et seq.) because it only affects NASA's internal implementation of existing regulatory requirements.

C. Paperwork Reduction Act

The Paperwork Reduction Act does not apply because the changes to the NFS do not impose any recordkeeping or information collection requirements that require the approval of the Office of Management and Budget under 44 U.S.C. 3501, et seq.

Lists of Subjects in 48 CFR Part 1842

Government procurement.

Tom Luedtke,
Associate Administrator for Procurement.

Accordingly, 48 CFR Part 1842 is amended as follows:

1. The authority citation for 48 CFR Part 1842 continues to read as follows:

Authority: 42 U.S.C. 2473(c)(1).

PART 1842—CONTRACT ADMINISTRATION AND AUDIT SERVICES

2. Revise section 1842.1502 to read as follows:

1842.1502 Policy.

(a) Within 60 days of every anniversary of the award of a contract having a term exceeding one year, contracting officers must conduct interim evaluations of performance on contracts subject to FAR subpart 42.15 and this subpart. On such contracts, both an interim evaluation covering the last period of performance and a final evaluation summarizing all performance must be conducted. However, interim past performance evaluations are optional for SBIR/STTR Phase II, procurements.

[FR Doc. 00-18389 Filed 7-20-00; 8:45 am]

BILLING CODE 7510-01-P